DEPARTMENT OF HEALTH AND HUMAN SERVICES

Administration for Children and Families

[Program Notice No. ACF/ACYF/HS 2000-03]

Fiscal Year 2000 Discretionary Announcement for Nationwide Expansion Competition of Early Head Start; Availability of Funds and Request for Applications

AGENCY: Administration on Children, Youth and Families (ACYF), Administration for Children and Families (ACF), DHHS.

ACTION: Notice of Fiscal Year 2000 Early Head Start availability of financial assistance for nationwide expansion competition and request for applications.

SUMMARY: The Administration on Children, Youth and Families announces approximately $40 million in financial assistance to be competitively awarded to public and private non-profit and for-profit entities—including Early Head Start and Head Start grantees—to provide child and family development services for low-income families with children under age three and pregnant women. Early Head Start programs provide early, continuous, intensive and comprehensive child development and family support services on a year-round basis to low-income families. The purpose of the Early Head Start program is to enhance children's physical, social, emotional, and intellectual development; to support parents' efforts to fulfill their parental roles; and to help parents move toward self-sufficiency.

The funds available will be competitively awarded to eligible applicants to operate Early Head Start programs.

Grants will be awarded to establish or expand Early Head Start programs. Current Early Head Start grantees may apply to expand the number of children they enroll within the areas they currently serve or to initiate services in other local areas that are not currently being served. Other applicants may not apply to operate programs in the areas that are already served by current Early Head Start grantees, but may apply to establish an Early Head Start program in an area which is currently unserved (see Appendix A for the list of geographic areas currently being served and unavailable for new grantees).

DATES: The closing date and time for receipt of applications is 5:00 p.m. EDT on May 1, 2000.

Note: Applications should be submitted to the ACYF Operations Center at: 1815 N. Fort Myer Drive, Suite 300, Arlington, VA 22209. However, prior to preparing and submitting an application, in order to satisfactorily compete under this announcement, it will be necessary for potential applicants to read the full announcement which is available through the addresses listed below.

ADDRESSES: A copy of the program announcement, necessary application forms, and appendices can be obtained by contacting: Early Head Start, ACYF Operations Center, 1815 North Fort Myer Drive, Suite 300, Arlington, Virginia 22209. The telephone number is 1-800-351-2293.

Or email to: ehs@lcgnet.com.

Copies of the program announcement and necessary application forms can be downloaded from the Head Start web site at: www.acf.dhhs.gov/programs/hsb

FOR FURTHER INFORMATION CONTACT: ACYF Operations Center at: 1815 N. Fort Myer Drive, Suite 300, Arlington, VA 22209 or telephone: 1-800-351-2293 or email to: ehs@lcgnet.com

SUPPLEMENTARY INFORMATION:

Eligible Applicants: Applicants eligible to apply to become an Early Head Start program are public and private non-profit and for-profit agencies. Early Head Start and Head Start grantees are eligible to apply.

Project Duration: For new Early Head Start grantees, the competitive awards made through this announcement will be for one-year budget periods and an indefinite project period. Subsequent year budget awards will be made non-competitively, subject to availability of funds and the continued satisfactory performance of the applicant. However, any current Early Head Start grantee which is successful in this competition will not be funded for an indefinite project period, but rather will be given a supplement to its current, time limited grant. A grantee, for example, currently funded for $200,000 with a project period ending September 30, 2002 which is awarded another $100,000 through this announcement would then be funded as a $300,000 Early Head Start grantee with a project period that still ends on September 30, 2002. This would be true regardless of whether the new funds are to expand services within the grantee's current service area or to expand into another currently unserved area. Prior to the end of an Early Head Start grantee's current project period (i.e., September 30, 2002 in the above example), ACF will announce a competition for those areas served by each EHS grantee whose project period is nearing an end. In such a competition, current EHS grantees in good standing, who submit acceptable applications, will be given priority in funding decisions.

Federal Share of Project Costs: In most cases, the Federal share will not be more than 80 percent of the total approved costs of the project.

Matching Requirements: Grantees that operate Early Head Start programs must, in most instances, provide a non-Federal contribution of at least 20 percent of the total approved costs of the project.

Available Funds: See Appendix B for the list of the approximate amount of funds available for States. These estimates have been developed based primarily on: (1) The statutory formula which determines the distribution of all Head Start program funds among the States, and (2) the existing distribution of funds.

Anticipated Number of Projects to be Funded: It is estimated that there will be 100-125 awards.

Statutory Authority: The Head Start Act, as amended, 42 U.S.C. 9831 et seq.

Evaluation Criteria: Competing applications for financial assistance will be reviewed and evaluated on the six criteria which are summarized below. The point values following each criterion indicate the numerical weight each criterion will be accorded in the review process.

Criterion 1. Objectives and Need for Assistance (15 points)

The extent to which, based on community assessment information, the applicant identifies any relevant physical, economic (e.g., poverty in the community), social, financial, institutional, or other issues which demonstrate a need for the Early Head Start program.

The extent to which the applicant lists relevant program objectives that adequately address the strengths and needs of the community.

The extent to which the applicant describes the population to be served by the project and explains why this population is most in need of the services to be provided by the program.

The extent to which the applicant gives a precise location and rationale for the project site(s) and area(s) to be served by the proposed project. If the applicant is a current grantee planning to expand its program it needs to demonstrate that the geographic area is currently underserved or, where applicable, unserved by Early Head Start Programs. If the applicant is new, it needs to demonstrate that the proposed service area is currently unserved by Early Head Start programs.

Criterion 2. Results or Benefits Expected (10 points)

The extent to which the applicant identifies the results and benefits to be derived from the project and links these to the stated objectives.

The extent to which the applicant describes the kinds of data to be collected and how they will be utilized to measure progress towards the stated results or benefits.

Criterion 3. Approach (25 points)

The extent to which the applicant demonstrates a thorough knowledge and understanding of the Head Start Program Performance Standards.

The extent to which the applicant explains why the approach chosen is effective in light of the needs, objectives, results and benefits described above.

The extent to which the approach is grounded in recognized standards and/or guidelines for high quality service provision or is defensible from a research or “best practices” standpoint.

Criterion 4. Staff and Position Data and Organization Profiles (15 points)

The extent to which the proposed program director, proposed key project staff, the organization's experience, including experience in providing early, continuous, and comprehensive child and family development services, and the organization's history with the community demonstrate the ability to effectively and efficiently administer a project of this size, complexity and scope.

The extent to which the applicant's management plan demonstrates sufficient management capacity to implement a high quality Early Head Start program.

The extent to which the organization demonstrates an ability to carry out continuous improvement activities.

Criterion 5. Third Party Agreements/Collaboration (15 points)

The extent to which the applicant presents documentation of efforts (letters of commitment, interagency agreements, etc.) to establish and maintain ongoing collaborative relationships with community partners.

The extent and thoroughness of approaches to combining Early Head Start resources and capabilities with those of other local child care agencies and providers to provide high quality child care services to infants and toddlers which meet the Head Start Program Performance Standards.

Criterion 6. Budget and Budget Justification (20 points)

The extent to which the program's costs are reasonable in view of the planning and activities to be carried out and the anticipated outcomes.

The extent to which the program has succeeded in garnering cash or in-kind resources, in excess of the required Federal match, from local, State, other Federal or private funding sources. The extent to which costs for facilities are reasonable and cost effective.

The extent to which the salaries and fringe benefits reflect the level of compensation appropriate for the responsibilities of staff.

The extent to which assurances are provided that the applicant can and will contribute the non-Federal share of the total project cost.

Required Notification of the State Single Point of Contact

This program is covered under Executive Order 12372, “Intergovernmental Review of Federal Programs,” and 45 CFR Part 100, “Intergovernmental Review of Department of Health and Human Services Programs and Activities.” Under the Order, States may design their own processes for reviewing and commenting on proposed Federal assistance under covered programs.

All States and territories except Alabama, Alaska, Colorado, Connecticut, Hawaii, Idaho, Kansas, Louisiana, Massachusetts, Minnesota, Montana, Nebraska, New Jersey, New York, Ohio, Oklahoma, Oregon, Pennsylvania, South Dakota, Tennessee, Vermont, Virginia, Washington, American Samoa, and Palau have elected to participate in the Executive Order process and have established Single Points of Contact (SPOCs). Applicants from these jurisdictions need not take action regarding Executive Order 12372.

Applications for projects to be administered by Federally recognized Indian Tribes are also exempt from the requirements of Executive Order 12372. Otherwise, applicants should contact their SPOC as soon as possible to alert them to the prospective application and to receive any necessary instructions. Applicants must submit any required material to the SPOC as early as possible so that the program office can obtain and review SPOC comments as part of the award process. It is imperative that the applicant submit all required materials, if any, to the SPOC and indicate the date of this submittal (or date of contact if no submittal is required) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations which may trigger the “accommodate or explain” rule.

When comments are submitted directly to the ACF, they should be addressed to: William Wilson, Head Start Bureau, Grants Officer, 330 C Street S.W., Room 2220, Washington, D.C. 20447. Attn: Early Head Start Nationwide Competition/Expansion.

A list of the Single Points of Contact for each State and Territory can be found on the following web site: http://www.hhs.gov/progorg/grantsnet/laws-reg/spoc999.htm

(Catalog of Federal Domestic Assistance Program Number 93.600, Project Head Start)
Dated: February 22, 2000.
Patricia Montoya,
Commissioner, Administration on Children,Youth and Families.

Appendix A—Early Head Start Expansion, FY 2000 Service Areas

State | County | Local community
Alabama | Blount
| Clay
| Jefferson | (1) Birmingham, Bessemer, Tarrant City, Centerpoint, Adamsville, Grayville, Brookville, Sayre, Roebuck, Ensley, Forrestdale, Gardendale, and other small unincorporated areas; and (2) Referrals from the county welfare agency for teen mothers and mothers with chemical addictions and at risk of child abuse.
| Lawrence
| Lee
| Morgan
| Russell
| St. Claire | Pell City.
| Tuscaloosa | Tuscaloosa.
| Walker | Jasper.
Alaska | Lower Yukon | Villages of: Pilot Station and St. Mary's.
| Kuskokwin | Villages of: Akiak, and Nunapitchuk.
Arizona | Coconino | Flagstaff.
| Maricopa | (1) City of Phoenix: the area bounded by Camelback Road on the North, Elliot Road on the South, 40th Street on the East, and 43rd Avenue on the West. (2) Chandler, Guadelupe, Mesa, Glendale and Dysart.
| Navajo | Holbrook.
| Pima | School Districts: Amphitheater, Flowing Wells, Tucson and Sunnyside.
| Yavapai | Cottonwood.
Arkansas | Calhoun | Cities of Hampton, Harrell and Thornton.
| Clay | Cities of Rector and Corning.
| Conway
| Franklin
| Johnson
| Lawrence | City of Walnut Ridge.
| Logan
| Mississippi | The townships of Leachville, Kaiser, Gosnell, Manila, and Luxora; City of Blytheville; City of Osceola.
| Newton
| Pope | Southern part.
| Pulaski | The townships of College Station, Sweet Homes, Higgins, and Wrightsville; the township of Granite Mountain; City of Little Rock:Interstate 30 South, Scott Hamilton Road, Baseline Rd. and Geyer Springs Rd; North of Roosevelt Road, West of Main Street, East of University Avenue, and South of Interstate 630.
| Randolph | City of Pocahontas.
| Sebastian | Fort Smith: Wards #1 and #2.
| Union | Cities of: Calion, El Dorado, Huttig, Felthensal, Junction City, Norphlet, Smackover, Strong.
| Yell
California | Alameda | (1) Albany, Berkeley, San Leandro, Castro Valley, Union City, Fremont, San Lorenzo, Hayward (Cherryland), and Newark; (2) Livermore, Dublin and Pleasanton; (3) West Oakland, Chinatown, Central Downtown, San Antonio, Fruitvale, Central East Oakland and Elmhurst.
| Calaveras | San Andreas, Valley Springs and Angels Camp.
| Contra Costa | Concord, Pleasant Hill, Antioch, Brentwood, Oakley, Richmond, San Pablo, Pittsburg.
| Del Norte | The cities of Crescent City, Fort Dick, Smith River and surrounding areas.
| El Dorado | Shingle Springs, El Dorado, El Dorado Hills, Cameron Park, Placerville, Georgetown/Kelsey, Camino/Polock Pines, Tahoe Basin.
| Fresno | West Fresno and Southeast Fresno areas.
| Humboldt | The cities of Arcata, Eureka, Fortuna, Rio Dell, McKinleyville, and surrounding areas.
| Kern | (1) Northeast Bakersfield, Arvin, Lamont; (2) Metro Bakersfield—Central and Southeast.
| Kings | Corcoran and Hanford.
| Lake
| Lassen
| Los Angeles | City of Los Angeles:
|  | (1) 3rd and Temple on the north, to Hoover, to Vermont, to 7th, to Wilshire, to Hoover and Central on the South border in the downtown L.A.
|  | (2) Koreatown, Echo Park, Pico/Union area, Mid-city area and Westlake area.
|  | (3) Baldwin Park USD North: Oak Ave. and Arrow Hwy, South: Farnell East: Azusa Canyon, La Serna, Willow, Ardilla, Mayland, West: San Gabriel River.
|  | (4) City of South El Monte: North: Garvey Ave, Fern St., Elliot Ave., and Schmidt Rd., South: Whittier Narrows Recreation Area, East: San Gabriel River, Fruitvale Ave.
|  | (5) El Monte City border; West to Whittier Narrows Recreation Area and Rio Hondo River; North: Century Blvd.; 104th Street; 103rd Street; South: Anderson Fwy (105); East: Prairie Ave.; West: La Cienega Blvd.
|  | (6) Gardena: North: El Segundo Blvd.; South: 182 St., Artesia Blvd. and Redondo Beach Blvd; East: Vermont Ave; West: Crenshaw Blvd. and Gramercy Blvd.
|  | (7) North: Century Blvd., 104th Street, 103rd Street, South: Anderson Freeway (105), East: Prarie Ave., and West: Crenshaw and Gramercy Blvds.
|  | (8) Plaza De La Raza North: A.T.& S.F. Railroad and Washington Blvd. South: Lakeland Rd. and Imperial Hwy. East: Shoemaker, Carmenita and Mulberry West: San Gabriel River (605 Freeway).
|  | (9) Plaza De La Raza: North: Imperial Hwy; South: Excelsior Dr., Alondra Blvd. and Santa Ana Frwy; East: Valley View Ave., Marquardt Ave.; West: Shoemaker Ave., Bloomfield Ave., Best Ave. and Norwalk City border.
|  | (10) Pomona USD: North: Foothill Blvd., Lewis Ave., Oak Dr., Parkwood Ln., Harrison Ave., Arrow Ave. and American Ave.; South: Pomona Frwy (60) and Riverside Dr.; East: San Bernardino County Line, Mountain Ave., Carnegie Ave., and Towne Ave.; West: Fulton Rd., L.A. County Fairplex, Fairplex Dr., San Bernardino Frwy (10), and Campus Dr.
|  | (11) North Hollywood service area: North: Saticoy St.; South: Universal City Border, Acama St. and Riverside Dr.; East: Clybourn Ave., Burbank Airport, and Burbank City border; West: Tujunga Ave., Fulton Ave., Coldwater Canyon Ave., and Hollywood Frwy. (170).
|  | (12) Parts of the greater Hollywood area.
|  | (13) Harbor City service area: North: Sepulveda Blvd., Lomita Blvd.; South: Palo Verdes Dr., Anaheim St.; East: Harbor Frwy (110) and Normandie Ave.; West: Western Ave., City of Torrance border, and City of Lomita border.
|  | (14) City of Venice; and
|  | (15) City of Long Beach, central area.
| Marin | San Rafael, Novato, Corte madera, Greenbrae, San Anselmo.
| Mendicino | Ukiah, Willits.
| Modoc
| Nevada | N. San Juan, Grass Valley, Nevada City.
| Placer | Kings Beach, Trukee, Rockland, Forresthill, and Lincoln.
| Riverside | Banning Beaumont and Morongo Band Indian Reservation.
| Sacramento | (1) The City of Sacramento: the communities of Del Paso Heights, North Sacramento/Gardenland, Midtown, Oak Park, South Sacramento, Meadowview, Natomas, Land Park and Arden/Howe.
|  | (2) the cities of Citrus Heights and Galt and;
|  | (3) the towns of Rio Linda/Everta, North Highlands, Foothill Farms, Orangevale, Carmichael, Fair Oaks, Rancho Cordova, South Sacramento, Franklin/Laguna, Elk Grove, and Antelope; and
|  | (4) Woodland, Winters, Davis and West Sacramento.
| San Diego | Central San Diego, Penninsula, National City, Southeast San Diego, Mid-City, Coastal Poway, Sweetwater, Chula Vista, and South Bay.
| San Francisco | Chinatown, Tenderloin, Visitation Valley; and parts of Northbeach, Civic Center, and Bayview Hunters Point.
| San Joaquin | Lodi, Stockton, Manteca, Lathrop.
| San Mateo | Half Moon Bay.
| Santa Barbara | Santa Maria, Lompoc, Santa Barbara and Summerland.
| Santa Clara | Northwest and central San Jose.
| Santa Cruz | Watsonville.
| Shasta | Anderson, Redding, and Cottonwood.
| Siskitou | Yreka South to Dunsmuir, and Weed.
| Stanislaus | Westside of county areas of Westley and Patterson.
| Sutter | Live Oak, Lakeport, Clear Lake, Kelseyville, Nice, Lucerne and Cobb.
| Trinity | Weaverville to Hayfolk.
| Tulare
| Ventura | Oxnard, Hueneme, Santa Paula, Fillmore and Piru.
| Yolo
| Yuba | Live Oak, Linda, Yuba City, Marysville, Olivehurst.
Colorado | Adams | City of Aurora: North to the city limits of Aurora; South to Mississippi St, East of Yosemite St, and West of Chambers Rd.
| Arapahoe
| Crowley | Manzanola.
| Denver | City of Denver:
|  | (1) SW portion of the city, defined as within Federal Blvd to the East, Sheridan Blvd on the west, Hampden Ave to the south and Alameda Ave to the north.
|  | (2) NW Denver is bordered by Federal Blvd on the west, Interstate 25 on the east, 52nd Ave to the north and 38th Ave to the south; and
|  | (3) W Central Denver, defined by I-25 on the east, Sheridan Blvd on the west, 26th Ave on the north and 6th Ave to the South.
|  | (4) NE Denver: defined as 38th Ave. to the North, Park Ave. to the South, York Street to the East and I-25 to the West.
| Eagle
| El Paso | The boundaries of School Districts #2 and #11.
| Fremont.
| Otero | LaJunta.
| Poudre | Cities of Fort Collins, LaPorte, Timnath and Wellington School district boundaries.
Connecticut | Fairfield | Neighborhoods of (1) The Hollow, (2) West End, (3) South End, (4) North End, (5) East End, (6) East Side; and The cites of Bridgeport; and Stamford.
| Hartford | Cities of Manchester and Vernon.
| Litchfield | Towns of Torrington, Winston, Canaan, & New Milford.
| Middlesex | Towns of Middletown, Essex, Portland, Clinton and Westbrook.
| New Haven | City of Waterbury.
| Windham | Towns of Brooklyn, Danielson and Willimantic.
Delaware | New Castle.
| Sussex | Georgetown.
Florida | Alachua | Communities of Majestic Oaks, Sugarfoot Oaks, Tower Oaks, Cedar Ridge, Clayton Estates, Magnolia Plantation.
| Apalachicola.
| Baker.
| Bay | Panama City.
| Brevard |
| Broward | Pompano Beach, Hollywood.
| Collier.
| Columbia | Lake City.
| Dade | (1) Homestead, Southern Area School District;
|  | (2) City of Homestead and towns of Brownsville, Scott Carver, Liberty City, Winwood, Goulds, Leisure City, Carol City and OpaLocka.
| Desoto.
| Gadsden | Quincy, Havana, Gretna.
| Glades.
| Gulf | Wewahitchka, Port St. Joe.
| Hardee.
| Hendry.
| Highlands.
| Hillsboro | Tampa, Plant City.
| Jefferson
| Lake | Clermont, Eustis, Leesburg, Mount Dora, Montclair Village, Groveland.
| Leon | Tallahassee.
| Madison | Madison, Greenville.
| Marion.
| Martin | Hobe Sound, Port Salerno, Gomez Golden Gate, Stuart.
| Okaloosa | Crestview— 20 mile radius.
| Palm Beach | Pahokee, South Bay and Belle Glade-Western region of county, West Palm Beach Hispanic Community, West Palm Beach, North-South West Palm Beach.
| Sarasota | Sarasota, Newton.
Georgia | Chatham | Savannah.
| Chattooga
| Clayton | Jonesboro.
| Cobb | Marrietta.
| Dekalb | Decatur, City of Decatur, Ellenwood, Lithonia, Stone Mountain, Whiteford Community, Chamblee, City of Atlanta.
| Douglas | Douglasville.
| Emanuel | Swainsboro, Twin City, Summertown, Adrian, Oak Park, Lexsy, Garfield, Stillmore.
| Fulton | East Point, Fulton Cabbagetown, Bankhead Courts, Centennial Courts.
| Gwinnett | Lawrenceville.
| Murray.
| Sumter | Americus.
| White.
| Whitfield.
| Hall.
Hawaii | Hawaii | South Kona & North Kona, South Kohala & North Kahala.
| Maui | Lanai, Makawao/Upcountry, Hana/East Maui, Lahaina/West Maui Wailuku & Kahulu-Central Maui and Kihei-South Maui.
| Oahu | (1) Waipahu to Hawaii Kai;
|  | (2) Honolulu vicinity defined by Hawaii Kai (Koolauloa): Kaaawa, Hau'ula, Laie, Kahuku, Pupukea (North Shore) Sunset, and Kahana Valley.
|  | (3) Leeward Oahu: Waianae Coast, Windward Oahu: Kailua Waimanalo, Central Oahu: Makalapa and Wahiawa & Honolulu: Palama area.
Idaho | Bonner | Community of Sand Point.
| Kootenai | Coer d'Alene/Post Falls.
| Nez Perce.
Illinois | Champaign.
| Clinton
| Cook County | (1) South Chicago/Lower West Side; Near South/Armour Square; New City/West Englewood/Englewood ;
|  | (2) Cicero/Berwyn, Maywood, and Bellwood; Uptown; Rogers Prk;
|  | (3) Humboldt Park; Evanston Township;
|  | (4) community of Grand Boulevard;
|  | (5) communities of Oakland, Albany, Park, North Lawndale, Gage Park, Fuller Park, Near West Side, Roseland, West Town, Austin, Logan Square, West Pullman, Chatham, Woodlawn, Washington Heights, Near North Side, Garfield Park, and Douglas.
| Edwards
| Franklin
| Gallatin
| Hamilton
| Kane | Towns of Elgin, Aurora, and Carpentersville.
| Madison | Towns of Alton, Granite City, Pontoon Beach, Venice, Collinsville and E. Alton.
| Peoria | City of Peoria.
| Saline
| Sangamon
| St. Clair | District 1/East St. Louis; District 3/ Cahokia-Centreville.
| Wabash
| Washington
| Wayne
| White
| Will | Town of Joliet.
| Williamson
Indiana | Blackford
| Clay
| DeKalb
| Grant
| Howard
| Lawrence
| Madison
| Marion | Pike, Washington, Lawrence, Wayne, Center, and Warren Townships.
| Marshall
| Martin
| Miami
| Orange
| Owen
| Putnam
| Starke
| Tippecanoe
| Vanderburg | Town of Evansville.
| Vigo
| Washington
Iowa | Audubon
| Blackhawk
| Buena Vista
| Calhoun
| Carroll
| Chariton
| Cherokee
| Clark
| Clay
| Clayton
| Dallas
| Decatur
| Des Moines | City of Des Moines: an area bordered on the west by the county line from Raccoon River to 9400 North; from 9400 N to NW 58th to NW 110th Place to NE 22nd Street to NE 118th Street; East Border (North to South)—NE 29th to I-80 to NE 120th Street to East University to NE 64th Street to SE 6th to SE 60th to the Des Moines River to I-65 to 80th SW. South Border (East to West)—80th SW/county line (from Des Moines River to 9800 W).
| Dickinson
| Emmet
| Green
| Guthrie
| Hamilton
| Hardin
| Henry
| Humboldt,
| Ida
| Lee
| Linn
| Louisa
| Lyon
| Marshall
| Monroe
| O'Brien
| Osceola
| Pala Alto
| Plymouth
| Pocahontas
| Poweshiek
| Sac
| Scott | City of Davenport: an area bounded by: The west side of I-280 on the west edge of Davenport continuing from the Mississippi River north to the north side of I-80 on the north edge of Davenport; North boundary: From a point where I-280 meets I-80 continuing east to the east side of I-74 on the east edge of Davenport; East boundary: From the north starting point of I-74 where it meets I-80, continuing south of I-74 to the Mississippi River; South boundary: East from the east side of I-74 west along the Mississippi River to the west edge of I-280 where I-280 meets the river.
| Sioux
| Story
| Tama
| Wayne
| Webster
| Woodbury
| Wright
Kansas | Atchinson
| Brown
| Cherokee
| Clay
| Crawford
| Dickerson
| Ellis
| Elsworth
| Ford
| Jackson
| Jefferson
| Labette
| Leavenworth
| Lyon
| Montgomery
| Republic
| Riley
| Rush
| Russell
| Saline
| Sedgwick | City of Witchita: an area bounded by Murdock Street on the North, 47th South Street on the South, Woodlawn Street on the East and Main Street on the West.
| Shawnee | North of I-435 to 47th Street, West of State Line Road to Lackman Road. NE Johnson County.
| Sumner
| Washington
| Wyandotte | City of Kansas City: North, South, and East to County Line, South to 78th St.
Kentucky | Ballard
| Bourbon
| Breckinridge
| Calloway
| Carlisle
| Christian | Hopkinsville.
| Clay
| Daviess | Owensburg.
| Fayette
| Fulton
| Graves | The towns of Mayfield, Fancy Farm, Lowes, Sedalia, Symsonia and Wingo.
| Grayson |
| Harlan
| Harrison
| Hickman
| Jefferson | (1) City of Louisville; and (2) Northwest, Southwest, Southeast and Northeast quadrant of the county.
| Knox | Hindman, West Caney.
| Letcher | Jenkins, Fleming.
| Lincoln
| Marshall
| McCracken | The towns of Paducah, Concord, Farley, Heath, Hendron and Loneoak.
| Nicholas
| Ohio
| Owsley
| Scott
| Warren | The towns of Bowling Green, Rockfield, Albaton, Rich Panel, and Plano.
Louisiana | East Baton Parish | City of Baton Rouge: the area located in North Baton Rouge on Winbourne Avenue which includes the area West to Louisiana Arkansas Railroad track, East to Airline Highway, North to Airline Highway and South to Choctaw Drive.
| Bossier Parish
| Orleans Parish | City of New Orleans:
|  | (1) South Claiborne to the North, Jefferson Avenue to the West, St. Charles Avenue to the South and Louisiana Avenue to the East;
|  | (2) Jackson Avenue to the West, Tchoupitoulas to the South, M.L. King to the East and St. Charles Avenue to the North;
|  | (3) Napoleon Ave to the West, Tchoupitoulas to the South, Louisiana Avenue to the East and St. Charles Avenue to the North;
|  | (4) I-10 to the West, Wilson Avenue to the East, Dwyer Road to the North and Chef Menteur Highway to the South.
| Rapides Parish St. Helena Parish | City of Alexandria
| St. Martin Parish
| St. Tammany Parish | The Northern portion of Parish bordered on the North by the St. Tammany/ Washington Parish Line, bordered on the East by the Pearl River/Mississippi State Line, bordered on the South by US Highway 190, and bordered on the West by the St. Tammany-Tangipahoa Parish.
| Tangipahoa Parish | South portion of Tangipahoa Parish bordered on the North by Louisiana State Highway 16, bordered on the East by the Tangipahoa-St. Tammany Parish Line, bordered on the South by State Highway 22, and bordered on the West by the Tangipahoa-Livingston Parish Line.
| West Feliciana Parish
Maine | Androscoggin
| Cumberland
| Franklin
| Lewiston
| Northern Kennebec
| Somerset
| Southern Oxford
Maryland | Alleghany
| Baltimore | City of Baltimore:
|  | (1) The communites of Edmondson Village, Sandtown/Winchester, Reservoir Hill, Park Heights (upper and lower), Washington Village/Pigtown, Mideast, Forest Heights, Mondawmin, Howard Park, Rosemount, Franklin Square/Poppletown, Penn/Druid/Uppertown, Green Mount East, Hopkins Middleast, Madison East End, Cherry Hill, Brooklyn/Curtis Bay, Claremount Armstead, Beechfield/Irvington, Belair/Edison, Waverly, Govans, Hampden/Woodbury, and Barclay;
|  | (2) an area bounded on the North by Monument Street, on the South by the Waterfront, on the East by the City Line and on the West by Broadway Street; Caroline County; and Southern Anne Arundel County, including the towns of Harwood, West River, Galesville, Lothian, Churchton, Deale, Shady Side and Traceys Landing.
| Harford | East of Route 1 & West of the Susquehanna River.
| Montgomery | (1) Rockville South of Route 28, Silver Spring and Tacoma Park; (2) Gaithersburg and Germantown.
| Prince George's | Hyattsville, Riverdale and Langley Park.
Massachusetts | Bristol | City of Fall River, and the Towns of Somerset, Swansea, Rehoboth, Dighton, Freetown, Berkley, Lakeville, and Seekonk.
| Essex | Cities/Towns of Lawrence, Methuen, Andover and N. Andover.
| Franklin | Towns of Greenfield, Orange and Turners Falls.
| Hampden | Cities of Holyoke, Chicopee and Springfield.
| Middlesex | Cities of Somerville and Lowell.
| Suffolk | City of Boston.
| Worcester | Towns of Southbridge, Webster and Oxford.
Michigan | Alger
| Alpena
| Antrim
| Baraga,
| Bay
| Benzie
| Charlevoix
| Chippewa City
| Clare
| Delta
| Emmet
| Genesse | (1) Carman-Ainsworth School District and Bendel School District;
|  | (2) Eligible families enrolled in the Michigan Job Corp, Mott Community College, U of MI—Flint, and the Career Alliance Program (Sylvester Broome Training Center);
|  | (3) Flint School District including service areas of Holmes and Whittier; and
|  | (4) School Districts of Clio, Montrose, Mt. Morris, Genesee, Kearsley, West Wood Heights and Flushing.
| Gladwin
| Gogebic
| Grand Traverse
| Gratiot
| Hillsdale
| Houghton,
| Huron
| Ionia
| Iosco
| Isabella
| Jackson
| Kalkaska
| Kent | North Boundary—3 Mile Road; East Boundary—East Beltline Ave (except East Grand Rapids); South Boundary-28th Street; West Boundary-Byron Center Road/Covell Avenue/Walker Avenue.
| Keweenaw
| Lake
| LaPeer
| Leelanau
| Luce
| Mackinac
| Manistee
| Marquette
| Mason
| Mecosta
| Mecosta
| Menominee
| Missaukee
| Montcalm
| Newaygo
| Ontonagon
| Osceola
| Ottawa | Towns of Ferrysburg, Grand Haven Township, Spring Lake Township, Crockery Township, and Robinson Township.
| Roscommon
| Sanilac
| Schoolcraft
| Tuscola
| Wayne | Oakland Blvd./Byron/ Warren/ Woodland; W.Grand Blvd./ Byron/Holmur/Fullerton Thomson/ Puritan/ Fullerton/ Myers; Southfield/Puritan/8 Mile Rd./Five Points; Telegraph/ Fullerton/ Southfield/ Puritan.
| Wexford
Minnesota | Anoka
| Becker
| Beltrami
| Benton
| Cass
| Crow Wing
| Hennepin | City of N. Minneapolis.
| Hubbard
| Kittson
| Lake of the Woods
| Mahnomen
| Marshall
| Morrison
| Ramsey | Western half of county including two school districts from the East (Moundview/ Roseville School District and North St. Paul-Maplewood-Oak Dale School District, and White Bear Lake School District) Boundaries: City of St. Paul, Interstate 35, Interstate 94 and Lafayette Road.
| Roseau
| Sherburne
| Stearns
| Todd
Mississippi | Adams
| Copiah | Job Corps site in Crystal Springs.
| Grenada | Grenada.
| Harrison | Biloxi.
| Hinds
|  | Jackson and all county areas.
| Holmes | Lexington, Ebenezer, Bowling Green.
| Jones | City of Laurel and Towns of Ellisville and Soso.
| Lafayette | Oxford.
| Leake | Walnut Grove.
| Lee | Tupelo.
| Leflore | Greenwood.
| Marshall
|  | Byhalia, Holly Springs.
| Panola | Batesville
| Pontotoc
| Tallahatchie | Glendoro.
| Tate | Senatobia
| Tunica
| Washington | Hollandale, Arcola, Tralake, Murphy.
Missouri | Benton
| Buchanan
| Cedar
| Cooper
| Greene | City of Springfield: Bordered to the North by I-44, to the South by Battlefield Road, to the West by Haseltine Road (Farm Road 115) and to the East by Highway 65.
| Henry
| Jasper
| Lincoln
| Moniteau
| Montgomery
| Morgan
| Newton
| Pettis
| St. Charles | City of St. Charles: an area bordered from south, east and west city limit boundary to the Hunters Ridge cutoff to the north.
|  | City of St. Peters: an area bordered from the south, west and north city limit to the Kimberly Street cutoff to the east.
| St. Clair
| St. Louis | (1) City of Kinloch—an area bordered to the North by Highway 70; to the East by Highway 170; West by Bermuda Rd. and South by Highway 270;
|  | (2) City of Maplewood—an area bordered to the North by Watson Road; East by141; West by McCausland; and South by Highway 40;
|  | (3) University City—an area bordered to the North by Highway 40; East by Lindbergh; West by Skinker; and South by Page;
|  | (4) City of Jennings—an area bordered to the North by Hord; East by Lucas & Hunt; West by Jennings St. Rd., and South by Halls Ferry Rd., the Southern border of Cozens;
|  | (5) North County—an area bordered to the North by North West Florissant, North of Highway 70 (on the East side of 170); to the East by Bermuda/Elizabeth North of 270; to the South by the Missouri River,; and to the West by Riverview;
|  | (6) City of Pagedale: an area bordered to the South by Natural Bridge: to the East by Ashby; to the West by Skinker or Keinlen; and to the North by Delmar;
|  | (7) City of Pinelawn—an area bordered to the North by Natural Bridge; to the East by Lucas & Hunt; to the West by Snow; and to the South by Highway 70 (includes Colony North);
|  | (8) City of Overland—an area bordered to the South by Highway 70; to the East by Highway 270; to the West by Woodson Rd; and to the North by Ladue Rd.;
|  | (9) City of Lemay—an area bordered North of River Rd., East of Susan Rd. West of River Des Peres, South of Watson Rd.
| Warren
Montana | Beaverhead
| Lincoln | City of Libby: School District #4.
| Missoula
| Silver Bow
| Yellowstone | Cities of Billings and Lockwood: School District #2.
Nebraska | Adams
| Box Butte
| Clay
| Colfax
| Dawes
| Douglas | City of Omaha: an area bordered North—I-680; South-Harrison Street (Sarpy County Line); East-Iowa State Line; West by 72nd Street.
| Franklin
| Gage
| Garfield
| Greeley
| Holt
| Howard
| Lancaster | City of Lincoln.
Nuckolls | Platte
| Saline
| Scotts Bluff
| Sherman
| Valley
| Webster
Nevada | Clark | Las Vegas, North Las Vegas and Henderson.
| Elko | Elko, Spring Creek, Carlin, Wells, Jackpot.
| Washoe | Cities of Reno and Sparks.
| Whitepine | Ely (Northern Nevada/Little People).
New Hampshire | Belknap
| Hillsborough | City of Manchester.
| Strafford
New Jersey | Atlantic
| Camden | City of Camden.
| Cape May,
| Cumberland
| Essex | (1) City of East Orange;
|  | (2) Newark Central Ward; West Ward; North Ward (Verona Avenue to Orange Street and Lake Street to McCarter Highway); and Bakery Village.
| Glouster
| Hudson | Union City. North Bergen, West N.Y, Weehawken, Guttenberg, Seacaucus.
| Ocean | Lakewood.
| Passaic County | West Milford, Wayne, Ringwood, Bloomingdale, Little Falls, Haledon, Pompton Lakes, Hawthorne, Patterson, Prospect Park, and Clifton.
| Salem
| Sussex
| Warren
New Mexico | Bernalillo | City of Albuquerque: Communities of:
|  | (1) La Mesa/New Futures— (a) Lomas (North) to Gibson (South), Carlisle (West) to Wyoming (East); (b) Far Southeast Heights boundary is North to I-40, South to Central, East to Eubank, and West to Louisiana.
|  | (2) Trumbull,
|  | (3) La Madrugada Center— (a) Spain (North) to Candelaria (South), Tramway (East) to Wyoming (West); (b) West to San Mateo, North to Osuna, East to Eubank, and South to I-40.
|  | (4) Pedro Baca
|  | (5) Mileston,
|  | (6) Rio Grande GRADS,
|  | (7) Almosa, MacArthur.
|  | (8) Northwest to Central Avenue, South to Bridge Boulevard, and East to Sunset Boulevard
|  | (9) East to 12th street, West to Rio Grande Blvd, and South to Candelaria
|  | (10) North Valley bounded to the West to 12th street, South to Central, North to Griegos and East to Broadway:
|  | (11) West to San Mateo, North to Central, South to Gibson, East to Louisiana.
| Doña Ana | City of Las Cruces.
| Lea | Hobbs and Lovington.
| San Juan
| Santa Fe
| Torrance
New York | Alleghany
| Bronx | (1) 3rd Ave. and Courtland Ave. through E.161st Street; Grand Ave. through East Featherbed Lane; University Ave through West 182nd Street;
|  | (2) East 146 Street through 156 Street; West on St Anns Ave and Union Ave;
|  | (3) Fulton Ave. to Park Ave.;
|  | (4) East 171st Street and Prospect Ave, through East 182nd;
|  | (5) East 183rd Street and East 187th St. to East Mosholu;
|  | (6) North on Longwood Ave. and Boston Rd and Jennings St.;
|  | (7) Charlotte St. and White Plains Rd;
|  | (8) Sedwick Ave. and Goulden Ave through West 242 St.;
|  | (9) West 183rd St. and Grand Concourse through Mosholu to Bruckner Blvd;
|  | (10) Mott Haven and Hunts Point (Community Board #1 & 2);
|  | (11) Spuyten Duyvil (Community Board #8);
|  | (12) University Heights (Community Board #7);
|  | (13) Fordham (Community Board #5);
|  | (14) Riverdale (Community Board #8);
|  | (15) Morris Heights (Community Board #5);
|  | (16) Highbridge (Community Board #4).
| Cattaraugus
| Chautauqua
| Chenango
| Dutchess |
| Erie | In the City of Buffalo: Teen mothers and pregnant women attending the following High Schools: Bennett, Lafayette, Grover Cleveland, Emmerson Vocational, South Park, Riverside, Seneca, Kensington, Alternative, City of Schools, Performing Arts, Buffalo Traditional, Hutch Technical, McKinley, Burgard, and City Honors.
| Herkeimer | City of Herkeimer
| Kings | Borough Park, Williamsburg, Crown Heights, and Flatbush * * * Staten Island: Park Hill, Clifton, and Stapleton; Ft. Green (Housing Projects—Ingersol, Whitman, Farraget)
| New York | 125 St. to 218 St, Riverside Drive to Harlem River, Edgecomb Ave, St Nicholas Ave; Washington Hgts: FDR Drive east, to Binery to the south; 14th Street to the West, North is bounded by East of Broad Street and South of 14th Street; and Lower East Side: East River across Delancey St. to Allen St., South on Allen St to Pike St to East River.
| Monroe | City of Rochester.
| Oneida | City of Rome.
| Onondaga | Syracuse.
| Queens | Rockaway Peninsula.
| Rensselaer
| Rockland | Spring Valley.
| Saratoga
| Schenectady | City of Schenectady.
| Steuben
| Suffork (or Nassau) | Central Brookhaven, including Coram, Medford, No, Bellport, Seldon, and Ridge.
| Sullivan
| Washington | School Districts.
| Wayne | Wolcott, Butller, Savannah, Huron, Rose Galen, Sodus, Lyons, Newark.
| Westchester
| Wyoming
North Carolina | Buncombe | City of Ashville; Towns of Woodson, Emma, and Johnstown.
| Carteret
| Caswell | Yanceyville and all county areas.
| Craven
| Davidson
| Guilford | Greensboro.
| Jones
| Macon
| McDowell
| Montgomery
| Moore
| Orange
| Pamlico
| Rowan
| Stanley
| Transylvannia
| Union | Monroe.
| Wayne
North Dakota | Barnes
| Benson | Spirit Lake Reservation.
| Dickey
| Eddy
| Foster
| Griggs
| Kitsap | Port Gamble S'Klallam Reservation.
| LaMoure
| Logan
| McIntosh
| Ramsey | Devils Lake.
| Stutsman
| Ward | Minot, including Minot Air Force Base.
| Wells
Ohio | Adams
| Auglaize
| Brown
| Champaign
| Clermont
| Cuyahoga | (1) City of Cleveland: Neighborhoods of: Glenville, Hough, Detroit-Shoreway, Clark-Fulton; and (2) City of East Cleveland.
| Darke
| Greene
| Hamilton | City of Cincinatti: Communities of Over-the-Rhine and Mount Auburn.
| Lake
| Lawrence
| Logan
| Lorain | Towns of Lorain, Elyria, Oberlin, Wellington, Columbia Station, and South Amherst.
| Medina
| Miami
| Montgomery | City of Dayton.
| Morgan
| Pike
| Preble
| Richland
| Shelby
| Summit | City of Akron: Communities of N. Akron, S. Akron, W. Akron, E. Akron.
| Van Wert
| Washington
| Wayne
Oklahoma | Choctaw
| Cleveland
| Creek | Pawnee.
| Logan
| Mays
| McCurtain
| Oklahoma | Oklahoma City:—an area bounded by Meridian Avenue on the West, North 50th on the North, Bryant Avenue on the East, and South 44th on the South.
| Payne
| Pottawatomie
| Pushmataha
| Rogers
| Seminole
| Wagner
Oregon | Hood River
| Jackson | City of Medford and metropolitan area; and the Illinois Valley.
| Josephine
| Multnomah | City of Portland:
|  | (1) bounded by N.E. Skidmore to the North, N.E. Tillamook to the South, 82nd Street to the East and the Willamette River to the West;
|  | (2) bounded by the Willamette River on the West, the Columbia River on the North, Holgate Blvd on the South and N.E. 122nd Ave to the East (ex-cluding the Enterprise Zone between N.E. Skidmore and N.E. Tillamook Streets);
|  | (3) bounded by: Holgate Ave on the North; the Multnomah County line to the South, S.E. 45th St. to the West and 122nd Ave., to the East. After 122nd, the service area extends North to Burnside and out to S.E 162nd Avenue. (Lents Junction).
| Umatilla | The communities of Pendleton, Hermiston, Umatilla and Stanfield.
| Wasco | The Dalles.
Pennsylvania | Allegheny | Towns of Terrace Village, Clairton, West Miflin, Elizabeth, McKees Rocks, and Stowe Township in the City of Pittsburgh.
| Beaver
| Bedford
| Bradford
| Butler
| Centre
| Clearfield
| Fayette
| Fulton
| Huntingdon
| Indiana
| Lackawanna
| Lehigh
| Luzerne
| Mercer
| Mifflin
| Philadelphia | City of Philadelphia:
|  | (1) Area enclosed by the Schuylkill River north to Girard Avenue, west on Girard to Parkside Avenue, north on Parkside Avenue to Belmont Avenue, south on Belmont to Westminster Avenue, west on Wesminster to 50th Street, south on 50th Street to Spruce Street, east on Spruce to 45th Street and south on 45th Street to the Schuykill River.
|  | (2) Pine Street on the north; Broad Street on the east, Philadelphia Naval Base on the South, Schuykill River on the west
|  | (3) North Central Philadelphia Empowerment Zone—6th Street to 23rd Street and from Montgomery Street to Poplar Street;
|  | (4) an area bounded on the North by Allegheny Avenue, on the South by Norris Street, on the East by 5th Street and on the West by 17th Street, excluding the North Philadelphia Empowerment Zone area.
| Pike
| Snyder
| Susquehanna
| Tioga
| Union
| Venango
| Washington
| Wayne
| Westmoreland
Rhode Island | Bristol | Bristol, Warren.
| Kent | Towns of Coventry and W. Warwick.
| Newport
| Providence | Towns of: Burrillville, Johnston, N. Providence, Smithfield, N. Smithfield, Glocester, Scituate and Foster.
South Carolina | Bamberg | Olar, Bamberg City, Denmark, Ehrhardt.
| Charleston | West Ashley, Downtown Charleston, and Charleston Nech Area.
| Greenville | City of Greenville: Communities of Nicholtown (including the Jesse Jackson Town Homes), Woodland-Pierce Homes, and Parker District (including Monaghan, San Souci).
| Lancaster
| Spartanburg
| Sumter | City of Sumter: Sumter School District.
South Dakota | Brookings
| Butte | Towns of Belle Fourche, Fruitdale, Newell, Nisland and Vale.
| Codington
| Hamlin
| Harding | Towns of Buffalo and Reva.
| Hughes
| Hyde
| Jones
| Lake
| Meade | Black Hawk.
| Mellette
| Minnehaha
| Moody
| Pennington | The communities of Box Elder, Ellsworth Air Force Base, Rapid City, & Rapid Valley.
| Perkins | Towns of Bison and Lemmon.
| Stanley
| Sully
Tennessee | Anderson | Andersonville, Briceville, Claxton, Clinton, Dutch Valley, Fairview, Grand Oaks, Lake City, Norris, Norwood.
| Bedford | Shelbyville city limits and 10 miles around Shelbyville.
| Cannon | Woodbury.
| Cheatham | Ashland City.
| Gibson
| Giles | Pulaski city limits and 10 miles around Pulaski.
| Hamilton | Communities of Soddy-Daisy, and Cedar Hill.
| Henry
| Knox | North Knoxville
| Lawrence | Lawrenceburg city limits and 10 miles around Lawrenceburg.
| Loudon
| Roane
| Robertson | Springfield.
| Rutherford | Murfresboro.
| Shelby | Frayse, North Memphis, South Memphis, Midtown; Vincent, Alabaster, Columbiana.
| Sumner | Gallagin.
| Trousdale | Hartsville.
| Weakley
| Williamson | Franklin.
| Wilson | Lebanon.
TEXAS | Bexar | The City of San Antonio,
|  | (1) an area on the Westside bounded by Woodlawn on the North, U.S. Highway 90 on the South, by Interstate 35 on the East and by Callahan on the West; and
|  | (2) the communities of Fredericksburg II, Circle North, New Westwood, Terrell Plaza, Fort Sam and Mount Zion.
| Brazos | City of Bryan: bounded by an area on the North by West 28th Street, on the South by Beck Bryan, Texas (Brazos Street, on the East by Sims Street and on the West by Palasota Street
| Brooks | Falfurrias:
|  | (1) bordered by San Saba Street to the South, West Garret Street to the North, North Center Street to the East and North Chester Street to the West.
|  | (2) area bordered by East Lamar on the North, East Forrest Street on the South, North Lincoln on the East and North Williams Street on the West.
| Brown
| Burnet | City of Burnet.
| Cameron | City of Harlingen: an area bounded by Harrison Street on the South, by Expressway 77 on the West, by F.M. 507 on the North and by F.M. 509 on the East.
| Collin | McKinney Independent School District.
| Dallas | City of Dallas: the communities of:
|  | (1) Pleasant Grove—an area bounded by I-635 on the North and East, I-45 on the South and I-30 on the West); and
|  | (2) South Oak Cliff an area bounded by I-35 on the North, I-20 on the South, I-45 on the East and I-30 on the West.
| Duval | San Diego.
| El Paso | Rural communities of Fabens, San Elizario, Clint and the following areas in the City of El Paso:
|  | (1) Sparks: an area bounded by Bufford Road to the East, I-10 to the South, Horizon City to the North and Avenue of the Americas to the West;
|  | (2) Northeast: an area bounded by Chaparral, New Mexico on the North, Montana Avenue on the South, Loop 375 on the East, and Patriot on the West.
| Fort Bend | Cities of Richmond and Missouri City.
| Gray | City of Pampa.
| Harris | City of Houston; service areas bordered by:
|  | (1) Tidwell on the North, Hardy and Maury on the East, Yale and Studewood on the West and IH-10 on the South;
|  | (2) North to Montgomery County line, East to the middle of Lake Houston, South to Beltway 8, and West to McKay Boulevard up to Spring Creek where it intersects the Montgomery County line;
|  | (3) North to East Fork of the San Jacinto River, East to Liberty County, South to the Northside of Indian Shores and West to the middle of Lake Houston;
|  | (4) Clinton Drive on the South, Lockwood on the East, Cavalcade on the North, and I-59 on the West;
|  | (5) North from the intersection of Green's Bayou and Highway 90 extending Eastward to Carpenter's Bayou, on the East by Carpenter's Bayou, on the South by the Houston Ship Channel, also known as Buffalo Bayou. West from the Houston Ship Channel Northward along Fidelity Road, turning Eastward to intersect with Oates Road, proceeding North on Oates Road to the T&NO Railroad line, then East along the T&NO Railroad parallel to Market Street, to Green's Bayou and Northward along Green's Bayou to intersect Highway 90.
|  | (6) area bounded by Highway 59 to the North, Chimney Rock Road to the East, Bellaire Blvd. to the South and Hillcroft Street to the West
| Hays | (1) San Marcos: an area encompassed by the San Marcos CISD (Consolidated Independent School District);
|  | (2) Hayes, an area encompassed by the Hays City CISD.
| Hood | Cities of: Granbury, Cresson, Lipan and Paluxy.
| Hutchinson | City of Borger.
| Jim Hogg | Hebbronville.
| Jim Wells | City of Alice: an area bordered by Loma Street on the North, on the East by Texas Blvd., on the South by Hill Street and on the West by Cameron Street; an area bounded by Sain Street on the North, Sea Breeze on the South, Texas Blvd. on the West and Stadium Road on the East.
| Kleberg | City of Kingsville:
|  | (1) an area bordered by Corral Road on the South, Armstrong Road on the East, University Blvd. on the West and Avenue F on the North;
|  | (2) W. General Cavos on the South, Sixth Street to the West, Fourteen Street to the East and Ailsle Avenue to the North.
| Lubbock | City of Lubbock: The Cherry Point neighborhood bordered by Loop 289 and East Municipal Drive in the North, East Broadway on the South, East Idalou Road on the East, and Yellowhouse Canyon on the West.
| Nacogdoches | Nacogdoches.
| Potter | City of Amarillo:
|  | (1) Amarillo Independent School District.
|  | (2) an area bounded on the North by Hastings Avenue; on the South by 37th Avenue, on the East by Eastern Street; and on the West by Coulter Road.
|  | (3) an area bounded on the North by 37th Avenue; on the Southwest by Arden Road; on the Southeast by West 58th Avenue; on the East by the Atchison, Topeka, and Santa Fe Railway; and on the West by Coulter Road.
| Starr | Rio Grande City.
| Tarran
| Taylor | Abilene Independent School District.
| Tom Green | City of San Angelo.
| Travis | City of Austin: an area bounded by Lamar Street on the West, Highway 183 on the East, Highway 290 on the North and William Cannon Drive on the South.
| Uvalde | Uvalde.
| Williamson | Cities of Taylor and Leander.
| Zapata | Zapata City.
| Zavala | LaPryor.
Utah | Carbon
| Davis
| Grand
| San Juan | Blanding.
| Utah
Vermont | Caledonia
| Essex
| Lamoille
| Orange
| Orleans
| Washington
| Windham
Virginia | Buchanan
| Dickenson
| Fairfax | (1) Cities of Fairfax and Falls Church; (2) City of Alexandria: Rt.1 Corridor.
| Isle of Wight | City of Franklin.
| James City | City of Williamsburg and James City.
| Prince William | Manassas and Manassas Park.
| Roanoke | City of Roanoke.
| Russel
| Southampton
| Surry | City of Newport News: from Jefferson Street east.
| Washington | City of Bristol.
| Wise | Towns of Esserville and Appalachia.
| York
Washington | Chelan
| Clark
| Douglas
| Ferry | The communities of: Metaline Falls, Newport, Loon Lake, Colville, Kettle Falls, Northport and Republic.
| Grant
| Island
| King | City of Seattle:
|  | (1) Ballard, and West Seattle; East: Lake Washington, West: Puget Sound, North: 145th Street, Southwest: Roxbury Street, Southeast: Juniper Street. This service area excludes the garden communities of Holly Park, Yesler Terrace, Rainer Vista and High Point.
|  | (2) Central District of Seattle bounded on the North by East Madison St and Lake Washington Blvd, on the South by Interstate 90, on the East by Lake Washington and on the West by Rainier Avenue South, South Main Street, Interstate 5, James Street and 12th Avenue.
| Kitsap | South Kitsap School District (Discovery High School) and Olympic College.
| Klickitat
| Pend Oreille
| Pierce | School Ddistricts: Clover Park School District; the Bethel School District; Pennisula School District; the Tacoma School District (Oakland Alternative High School) and the Woman's Correctional Center in Purdy, Washington.
| Skagit
| Snohomish | The City of Everett:
|  | (1) Area #1: North of 42nd Street, West of Marine View Drive, South of Highway 529 and East of Puget Sound;
|  | (2) Area #2: South of Casina Road, West of Mukulteo Speedway, East of Meridian Drive and North of Stickney Drive.
| South King
| Spokane | Community College students in the metropolitan area of the city of Spokane.
| Steven
| Walla Walla
| Whatcom
| Yakima | Towns of Grandview, Sunnyside, Mabtou, Granger, Toppenish, and White Swan.
West Virginia | Booke |
| Cabel | Cities of Huntington and Barboursville.
| Lincoln | Towns of Harts and Ranger.
| Marion | City of Fairmont.
| Marshall
| Monagalia
| Preston
| Randolph
| Tucker
| Wayne County | Towns of Crum and Fort Gay.
| Wetzel
| Wyoming
Wisconsin | Adams |
| Barron
| Brown
| Chippewa
| Columbia
| Dane
| Dodge
| Dunn
| Forest
| Grant
| Green
| Juneau
| Kenosha | City of Kenosha: Neighborhoods of: Wilson Heights and Bain.
| Manitowac
|  | Milwaukee.
| Oneida
| Pepin
| Pierce
| Polk
| Richland
| Sauk
| St. Croix
| Vilas
| Waukesha
Wyoming | Big Horn | Basin and Grable.
| Converse | Douglas and Glenrock.
| Gillette
| Goshen | Torrington.
| Hot Springs
| Natrona | Casper.
| Niobrara, | Lusk.
| Platte | Guernsey and Wheatl.
| Washakie
District of Columbia |  | (1) In Ward One an area enclosed by: Northeast—Spring Road, Northwest—Piney Branch Parkway, East—Michigan Avenue to Florida Avenue, Southeast—S Street, West—Rock Creek;
|  | (2) In Ward Two an area enclosed by: Northeast—New Jersey, Florida Avenue and S Street, Northwest—Florida Avenue, East—Florida Avenue and Southwest Freeway, Southeast—Anacostia River, West—Potomac River;
|  | (3) In Ward Four an area enclosed by: Northeast—Eastern Avenue, Northwest—Western Avenue, Southeast—Michigan Avenue, Southwest—Rock Creek;
|  | (4) In Ward Five an area enclosed by: Northeast—Eastern Avenue, Northwest—South Dakota, Southeast—Anacostia River, Southwest—Florida Avenue, West—Harewood Road;
|  | (5) Wards One, Two and Four, which includes the areas of Shepherd Park, Upper Cordoza, Adams Morgan and Mount Pleasant.
Commonwealth of Puerto Rico | Municipality of Aibonito |
| Municipality of Arecibo
| Municipality of Baja Santa Isabel
| Municipality of Bayamon
| Municipality of Canovanas
| Municipality of Canto | Cucharillas.
| Municipality of Carolina
| Municipality of Cayey
| Municipality of Ceiba
| Municipality of Cidra
| Municipality of Coamo | Las Flores.
| Municipality of Humacao
| Municipality of Junco
| Municipality of Loiza
| Municipality of Luquillo
| Municipality of Ponce
| Municipality of Rio Grande
| Municipality of San Juan | Cantera.
| Municipality of Toa
| Municipality of Trujillo Alto
| Municipality of Vega Alta | Muachauchal and Santa Ana.

Appendix B—State Allocation Estimates

State | Allocation
Alabama | $1,033,000
Arizona | 1,086,000
Arkansas | 332,000
California | 6,359,000
Florida | 2,620,000
Georgia | 1,926,000
Illinois | 780,000
Indiana | 391,000
Kentucky | 307,000
Louisiana | 1,329,000
Massachusetts | 250,000
Michigan | 735,000
Mississippi | 524,000
Missouri | 666,000
New Jersey | 459,000
New York | 2,151,000
North Carolina | 662,000
Ohio | 1,478,000
Oklahoma | 504,000
Pennsylvania | 566,000
Puerto Rico | 2,113,000
South Carolina | 672,000
Tennessee | 860,000
Texas | 5,953,000
Virginia | 617,000
Washington | 296,000
American Indian Programs | 1,100,000
Total | $35,765,000

The following States will compete in a multi-state pool of $3,000,000: Alaska, Colorado, Connecticut, Delaware, District of Columbia, Hawaii, Idaho, Iowa, Kansas, Maine, Maryland, Minnesota, Montana, Nebraska, Nevada, New Hampshire, New Mexico, North Dakota, Oregon, Outer Pacific, Rhode Island, South Dakota, Utah, Vermont, Virgin Islands, West Virginia, Wisconsin, Wyoming, and Migrant Programs.

[FR Doc. 00-4532 Filed 2-28-00; 8:45 am]

BILLING CODE 4184-01-P